DEPARTMENT OF HOUSING AND URBAN DEVELOPMENT

[Docket No. FR-7040-N-07]

60-Day Notice of Proposed Information Collection: Restrictions on Assistance to Noncitizens; OMB Control No.: 2577-0295

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 2, 2021.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Dacia Rogers, Office of Policy, Programs and Legislative Initiatives, PIH, Department of Housing and Urban Development, 451 7th Street SW, Room 3178, Washington, DC 20410; telephone 202-402-3374, (this is not a toll-free number). Persons with hearing or speech impairments may access this number via TTY by calling the Federal Relay Service at (800) 877-8339. Copies of available documents submitted to OMB may be obtained from Ms. Rogers.

SUPPLEMENTARY INFORMATION: This notice informs the public that HUD is seeking approval from OMB for the information collection described in Section A.

A. Overview of Information Collection

Title of Information Collection: Restrictions on Assistance to Noncitizens.

OMB Approval Number: 2577-0295.

Type of Request: Extension without change of a currently approved collection.

Form Number: HUD-9886, HUD-9886-ARA, HUD-9886-CAM, HUD-9886-CHI, HUD-9886-CRE, HUD-9886-FRE, HUD-9886-HMO, HUD-9886-KOR, HUD-9886-RUS, HUD-9886-SPA, HUD-9886-VIE.

Description of the need for the information and proposed use: HUD is prohibited from making financial assistance available to other than citizens or persons of eligible immigration status. This is a request for an extension of the current approval for HUD to require a declaration of citizenship or eligible immigration status from individuals seeking certain housing assistance.

Respondents (i.e.affected public ): Individuals or households, State, or Local Government.

Reporting Burden:

Information collection | Number of respondents | Frequency of response | Responses per annum | Burden hour per response | Annual burden hours | Hourly cost per response | Annual cost
New tenant admissions in Public & Indian Housing and Section 8 Programs** | 4,055 | 213 | 863, 715.00 | 0.16 | 138,194.40 | $30.00 | $4,145,832.00
Annual recertification of tenants' eligible immigration status in Public & Indian Housing and Section 8 Programs ** | 4,055 | 7 | 28,385.00 | 0.08 | 2,270.80 | 30.00 | 68,124.00
Totals | 4,055 |  | 892,100 |  | 140,465.20 |  | 4,213,956.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35 as amended.

Dated: April 23, 2021.
Laura Miller-Pittman,
Chief, Office of Policy, Programs and Legislative Initiatives.

[FR Doc. 2021-09216 Filed 4-30-21; 8:45 am]

BILLING CODE 4210-67-P